DEPARTMENT OF TRANSPORTATION

Federal Aviation Administration

14 CFR Part 39

[Docket No. 2000-NM-47-AD]

RIN 2120-AA64

Airworthiness Directives; Airbus Model A300 and A300-600 Series Airplanes

AGENCY: Federal Aviation Administration, DOT.

ACTION: Notice of proposed rulemaking (NPRM).

SUMMARY: This document proposes the adoption of a new airworthiness directive (AD) that is applicable to certain Airbus Model A300 series airplanes and all Airbus Model A300-600 series airplanes. This proposal would require a one-time high frequency eddy current inspection to detect cracking of the splice fitting at fuselage frame (FR) 47 between stringers 24 and 25, and corrective actions, if necessary. This proposal is prompted by issuance of mandatory continuing airworthiness information by a foreign civil airworthiness authority. The actions specified by the proposed AD are intended to detect and correct cracking of the splice fitting at fuselage FR47, which could result in reduced structural integrity of the airplane.

DATES: Comments must be received by May 5, 2000.

ADDRESSES: Submit comments in triplicate to the Federal Aviation Administration (FAA), Transport Airplane Directorate, ANM-114, Attention: Rules Docket No. 2000-NM-47-AD, 1601 Lind Avenue, SW., Renton, Washington 98055-4056. Comments may be inspected at this location between 9:00 a.m. and 3:00 p.m., Monday through Friday, except Federal holidays.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-47-AD.” The postcard will be date stamped and returned to the commenter.

Availability of NPRMs

Any person may obtain a copy of this NPRM by submitting a request to the FAA, Transport Airplane Directorate, ANM-114, Attention: Rules Docket No. 2000-NM-47-AD, 1601 Lind Avenue, SW., Renton, Washington 98055-4056.

Discussion

The Direction Générale de l'Aviation Civile (DGAC), which is the airworthiness authority for France, notified the FAA that an unsafe condition may exist on certain Airbus Model A300 series airplanes and all Airbus Model A300-600 series airplanes. The DGAC advises that it has received reports indicating that cracking occurred in the area surrounding the fastener holes that attach the splice fitting to fuselage frame (FR) 47 on airplanes on which Airbus Modification 5890 had been installed. This modification specifies cold working of the fastener holes in the splice fitting at fuselage FR47. As a result of a laboratory analysis of the cracked splice fittings, the DGAC further advises that inspection of all subject airplanes to detect cracking of the splice fitting at fuselage FR47 is necessary, regardless of whether the modification is installed. Such cracking, if not detected and corrected, could result in reduced structural integrity of the airplane.

Explanation of Relevant Service Information

The manufacturer has issued Airbus All Operators Telexes (AOT) A300-53A0350 (for Model A300 series airplanes) and A300-600-53A6123 (for Model A300-600 series airplanes), both dated October 25, 1999. These AOT's describe procedures for a one-time high frequency eddy current (HFEC) inspection to detect cracking of the splice fitting at fuselage FR47 between stringers 24 and 25, and corrective actions, if necessary. The corrective actions involve additional HFEC inspections to determine whether any cracking extends beyond fastener “A” of the splice fitting at fuselage FR47 and to detect cracking in the area surrounding the fastener holes of the splice fitting on the face of FR47. If cracking is determined to extend beyond fastener ‘A’, but is not detected in the area surrounding the fastener holes, the corrective actions involve replacing the splice fitting with a new splice fitting. The DGAC classified these AOT's as mandatory and issued French airworthiness directive 1999-515-298(B), dated December 29, 1999, in order to assure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require a one-time high frequency eddy current inspection to detect cracking of the splice fitting at fuselage FR47 between stringers 24 and 25, and corrective actions, if necessary. The actions would be required to be accomplished in accordance with the AOT's described previously, except as discussed below.

Differences Between Proposed AD and Related Service Information

Operators should note that, although the Airbus AOT's specify that the manufacturer may be contacted for disposition of certain conditions, this proposal would require the repair of those conditions to be accomplished in accordance with a method approved by either the FAA or the DGAC (or its delegated agent). In light of the type of repair that would be required to address the identified unsafe condition, and in consonance with existing bilateral airworthiness agreements, the FAA has determined that, for the proposed AD, a repair approved by either the FAA or the DGAC would be acceptable for compliance with this proposed AD.

The Airbus AOT's describe procedures for an additional HFEC inspection, which under certain circumstances allows operators to defer replacement of the splice fitting. This proposed AD would not require this inspection. Unlike the procedures described in the Airbus AOT's, this proposed AD would not permit further flight if cracks are detected in the splice fitting at fuselage FR47. The FAA has determined that, because of the safety implications and consequences associated with such cracking, any subject area that is found to be cracked must be repaired or modified prior to further flight.

Interim Action

This is considered to be interim action until final action is identified, at which time the FAA may consider further rulemaking.

Cost Impact

The FAA estimates that 83 airplanes of U.S. registry would be affected by this proposed AD, that it would take approximately 1 work hour per airplane to accomplish the proposed one-time HFEC inspection, and that the average labor rate is $60 per work hour. Based on these figures, the cost impact of the proposed AD on U.S. operators is estimated to be $4,980, or $60 per airplane.

The cost impact figure discussed above is based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-47-AD.

Applicability: All Model A300-600 series airplanes; and Model A300B4-2C, A300B2K-3C, A300B4-103, A300B4-203, A300B4-600, A300B4-600R, and A300F4-600R series airplanes on which Airbus Modification 5890 (Airbus Service Bulletin A300-53-0199) has been installed; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct cracking of the splice fitting at fuselage frame (FR) 47, which could result in reduced structural integrity of the airplane, accomplish the following:

Inspection

(a) Perform a one-time high frequency eddy current (HFEC) inspection to detect cracking of the splice fitting at fuselage FR47 between stringers 24 and 25 (left-and right-hand sides), in accordance with Airbus All Operators Telex (AOT) A300-53A0350 (for Model A300 series airplanes) or A300-600-53A6123 (for Model A300-600 series airplanes), both dated October 25, 1999; as applicable; at the applicable time specified in paragraph (a)(1), (a)(2), (a)(3), or (a)(4) of this AD.

For Model A300 Series Airplanes

(1) For Model A300 B4-100 series airplanes: Perform the one-time HFEC inspection at the applicable time specified in paragraph (a)(1)(i) or (a)(1)(ii) of this AD.

(i) For airplanes that, as of the effective date of this AD, have accumulated fewer than 20,000 flight cycles since installation of Airbus Modification 5890 (Airbus Service Bulletin A300-53-0199): Perform the one-time HFEC inspection at the later of the times specified in paragraphs (a)(1)(i)(A) and (a)(1)(i)(B) of this AD.

(A) Within 10,900 flight cycles or 22,000 flight hours since installation of Airbus Modification 5890, whichever occurs earlier.

(B) Within 1,500 flight cycles after the effective date of this AD.

(ii) For airplanes that, as of the effective date of this AD, have accumulated 20,000 or more flight cycles since installation of Airbus Modification 5890: Perform the one-time HFEC inspection within 750 flight cycles after the effective date of this AD.

(2) For Model A300B4/F4-200 series airplanes: Perform the one-time HFEC inspection at the applicable time specified in paragraph (a)(2)(i) or (a)(2)(ii) of this AD.

(i) For airplanes that, as of the effective date of this AD, have accumulated fewer than 20,000 flight cycles since installation of Airbus Modification 5890 (Airbus Service Bulletin A300-53-0199): Perform the one-time HFEC inspection at the later of the times specified in paragraphs (a)(2)(i)(A) and (a)(2)(i)(B) of this AD.

(A) Within 8,950 flight cycles or 18,600 flight hours since installation of Airbus Modification 5890, whichever occurs earlier.

(B) Within 1,500 flight cycles after the effective date of this AD.

(ii) For airplanes that, as of the effective date of this AD, have accumulated 20,000 or more flight cycles since installation of Airbus Modification 5890 (Airbus Service Bulletin A300-53-0199): Perform the one-time HFEC inspection within 750 flight cycles after the effective date of this AD.

For Model A300-600 Series Airplanes

(3) For Model A300-600 series airplanes on which Airbus Modification 5890 is not installed: Perform the one-time HFEC inspection at the applicable time specified in paragraph (a)(3)(i) or (a)(3)(ii) of this AD.

(i) For airplanes that have accumulated fewer than 10,000 total flight cycles as of the effective date of this AD: Perform the one-time HFEC inspection at the later of the times specified in paragraphs (a)(3)(i)(A) and (a)(3)(i)(B) of this AD.

(A) Prior to the accumulation of 2,500 total flight cycles or 6,400 total flight hours, whichever occurs earlier.

(B) Within 1,500 flight cycles after the effective date of this AD.

(ii) For airplanes that have accumulated 10,000 or more total flight cycles as of the effective date of this AD: Perform the one-time HFEC inspection within 500 flight cycles after the effective date of this AD.

(4) For Model A300-600 series airplanes on which Airbus Modification 5890 is installed: Perform the one-time HFEC inspection at the applicable time specified in paragraph (a)(4)(i) or (a)(4)(ii) of this AD.

(i) For airplanes that have accumulated fewer than 10,000 total flight cycles as of the effective date of this AD: Perform the one-time HFEC inspection at the later of the times specified in paragraph (a)(4)(i)(A) and (a)(4)(i)(B) of this AD.

(A) Prior to the accumulation of 6,500 total flight cycles or 16,700 total flight hours, whichever occurs earlier.

(B) Within 1,500 flight cycles after the effective date of this AD.

(ii) For airplanes that have accumulated 10,000 or more total flight cycles as of the effective date of this AD: Perform the one-time HFEC inspection within 500 flight cycles after the effective date of this AD.

Corrective Actions

(b) If any cracking is detected during the one-time HFEC inspection required by paragraph (a) of this AD, prior to further flight, remove the splice fitting and perform an HFEC inspection to detect cracking in the area surrounding the fastener holes (fastener holes “A” to “N”) on the face of FR47 adjacent to the affected splice fitting, in accordance with Airbus AOT A300-53A0350 (for Model A300 series airplanes) or A300-600-53A6123 (for Model A300-600 series airplanes), each dated October 25, 1999, as applicable.

(1) If no cracking is detected in the area surrounding the fastener holes on the face of FR47, prior to further flight, replace the splice fitting with a new splice fitting in accordance with the applicable AOT.

(2) If any cracking is detected in the area surrounding the fastener holes on the face of FR47, prior to further flight, repair in accordance with a method approved by either the Manager, International Branch, ANM-116, FAA, Transport Airplane Directorate; or the Direction Générale de l'Aviation Civile (DGAC) (or its delegated agent). For a repair method to be approved by the Manager, International Branch, ANM-116, as required by this paragraph, the Manager's approval letter must specifically reference this AD.

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Note 3: The subject of this AD is addressed in French airworthiness directive 1999-515-298(B), dated December 29, 1999.

Issued in Renton, Washington, on March 30, 2000.
Donald L. Riggin,
Acting Manager, Transport Airplane Directorate, Aircraft Certification Service.

[FR Doc. 00-8389 Filed 4-4-00; 8:45 am]

BILLING CODE 4910-13-U